DEPARTMENT OF ENERGY

Federal Energy Regulatory Commission

[Docket No. RP01-56-000]

Transwestern Pipeline Company; Notice of Technical Conference

December 13, 2000.

In the Commission's order issued on November 22, 2000, the Commission directed that a technical conference be held to address issues raised by the filing.

Take notice that the technical conference will be held on Tuesday, January 9, 2001, at 10 a.m., in a room to be designated at the offices of the Federal Energy Regulatory Commission, 888 First Street, NE, Washington, DC 20426.

All interested parties and Staff are permitted to attend.

David Boergers,
Secretary.

[FR Doc. 00-32261 Filed 12-18-00; 8:45 am]

BILLING CODE 6717-01-M